CORPORATION FOR NATIONAL AND COMMUNITY SERVICE

Proposed Information Collection; Submission for OMB Review; Comment Request

AGENCY: Corporation for National and Community Service.

ACTION: Notice.

SUMMARY: The Corporation for National and Community Service (hereinafter the “Corporation”), has submitted the following public information collection request (ICR) entitled Spirit of Service Awards Nomination Guidelines and Application—Senior Corps, AmeriCorps and Learn and Serve America to the Office of Management and Budget (OMB) for review and approval in accordance with the Paperwork Reduction Act of 1995 (PRA95) (44 U.S.C. 3506(c)(2)(A)). A copy of the IRC, with applicable supporting documentation, may be obtained by calling the Corporation for National and Community Service, Mr. David Premo at (202) 606-6717. Individuals who use a telecommunications device for the deaf (TTY-TDD) may call (202) 606-3472 between 8:30 a.m. and 5 p.m. Eastern time, Monday through Friday.

DATES: Written comments must be submitted to the individual and office listed in the ADDRESSES section by November 1, 2007.

ADDRESSES: Comments may be submitted, identified by the title of the information collection activity, to the Office of Information and Regulatory Affairs, Attn: OMB Desk Officer for the Corporation for National and Community Service, Office of Management and Budget, Room 10235, Washington, DC 20503, (202) 395-4718, within 30 days from the date of this publication in the Federal Register.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of collection of information on those who are to respond, including through the use of appropriate automated, electronic, mechanical, or other technological collection techniques or other forms of information technology, e.g., permitting electronic submissions of responses.

Comments

A 60-day public comment Notice was published in the Federal Register on May 30, 2007. This comment period ended July 30, 2007. No public comments were received from this notice.

Description: The Spirit of Service Awards enable the Corporation to recognize exceptional organizations and program participants from each of the Corporation's three programs, Senior Corps, AmeriCorps, and Learn and Serve America. The Corporation plans to continue to utilize specific nomination guidelines for each of the programs and follow a formal nomination process, which involves voluntary information collections from non-government individuals.

Since 2004 the Corporation has honored distinguished individuals and organizations with the Spirit of Service Awards. Prior to 2003, AmeriCorps recognized its outstanding members annually through the All-AmeriCorps Awards, which were initiated in 1999 and presented by President Clinton as part of the 5th anniversary celebration of the program. Senior Corps had recognized its outstanding projects and volunteers at its own national conference, and Learn and Serve America through its Leader School selection and the President's Student Service Awards.

Part I

Type of Review: Renewal.

Agency: Corporation for National and Community Service.

Title: Spirit of Service Awards Nomination Guidelines and Application—Senior Corps.

OMB Number: 3045-0091.

Agency Number: None.

Affected Public: Nonprofit organizations

Total Respondents: 200.

Frequency: Annually.

Average Time per Response: 3 hours.

Estimated Total Burden Hours: 600 hours.

Total Burden Cost (capital/startup): None.

Total Burden Cost (operating/maintenance): None.

Part II

Type of Review: Renewal.

Agency: Corporation for National and Community Service.

Title: Spirit of Service Awards Nomination Guidelines and Application—AmeriCorps.

OMB Number: 3045-0092.

Agency Number: None.

Affected Public: Nonprofit organizations.

Total Respondents: 200.

Frequency: Annually.

Average Time Per Response: 3 hours.

Estimated Total Burden Hours: 600 hours.

Total Burden Cost (capital/startup): None.

Total Burden Cost (operating/maintenance): None.

Part III

Type of Review: Renewal.

Agency: Corporation for National and Community Service.

Title: Spirit of Service Awards Nomination Guidelines and Application—Learn and Serve America.

OMB Number: 3045-0093.

Agency Number: None.

Affected Public: Nonprofit organizations.

Total Respondents: 200.

Frequency: Annually.

Average Time Per Response: 3 hours.

Estimated Total Burden Hours: 600 hours.

Total Burden Cost (capital/startup): None.

Total Burden Cost (operating/maintenance): None.

Dated: September 26, 2007.
Jonathan Williams,
Director, Office of Corporate Relations.

[FR Doc. E7-19424 Filed 10-1-07; 8:45 am]

BILLING CODE 6050-$$-P